DEPARTMENT OF LABOR

Employment and Training Administration

[TA-W-51,836]

Advanced Energy Industries Core Manufacturing Including Leased Workers of ADECCO Staffing, Fort Collins, CO; Amended Certification Regarding Eligibility To Apply for Worker Adjustment Assistance

In accordance with section 223 of the Trade Act of 1974 (19 U.S.C. 2273) the Department of Labor issued a Certification of Eligibility to Apply for Worker Adjustment Assistance on June 16, 2003, applicable to workers of Advanced Energy Industries, Core Manufacturing, Fort Collins, Colorado. The notice was published in the Federal Register on July 3, 2003 (68 FR 39977).

At the request of the State agency, the Department reviewed the certification for workers of the subject firm. Information provided by the company shows that leased workers of Adecco Staffing were employed at Advanced Energy Industries, Core Manufacturing to produce printed circuit board assemblies at the Fort Collins, Colorado location of the subject firm.

Based on these findings, the Department is amending this certification to include leased workers of Adecco Staffing, Fort Collins, Colorado employed at Advanced Energy Industries, Core Manufacturing, Fort Collins, Colorado.

The intent of the Department's certification is to include all workers of Advanced Energy Industries, Core Manufacturing who were adversely affected by the shift in production to China and Malaysia.

The amended notice applicable to TA-W-51,836 is hereby issued as follows:

“All workers of Advanced Energy Industries, Core Manufacturing, Fort Collins, Colorado including leased workers of Adecco Staffing, Fort Collins, Colorado engaged in employment related to the production of printed circuit board assemblies at Advanced Energy Industries, Core Manufacturing, Fort Collins, Colorado, who became totally or partially separated from employment on or after May 13, 2002, through June 16, 2005, are eligible to apply for adjustment assistance under section 223 of the Trade Act of 1974.”

Signed at Washington, DC this 24th day of July, 2003.
Elliott S. Kushner,
Certifying Officer, Division of Trade Adjustment Assistance.

[FR Doc. 03-20100 Filed 8-6-03; 8:45 am]

BILLING CODE 4510-30-P